DEPARTMENT OF TRANSPORTATION

Federal Aviation Administration

14 CFR Part 39

[Docket No. 2002-NM-327-AD]

RIN 2120-AA64

Airworthiness Directives; Boeing Model 737-600, 737-700, 737-700C, 737-800, and 737-900 Series Airplanes

AGENCY: Federal Aviation Administration, DOT.

ACTION: Notice of proposed rulemaking (NPRM).

SUMMARY: This document proposes the adoption of a new airworthiness directive (AD) that is applicable to certain Model 737-600, 737-700, 737-700C, 737-800, and 737-900 series airplanes. This proposal would require measuring the electrical resistance of the support bracket for the fire extinguisher bottle located in the left main landing gear wheel well to ensure that it does not exceed the maximum allowed resistance; and corrective actions, if necessary. This action is necessary to prevent high electrical resistance in the squib firing circuit, which could result in insufficient electrical current to fire the fire extinguisher bottle squib and discharge the fire extinguishing agent, which could lead to an uncontrolled engine fire. This action is intended to address the identified unsafe condition.

DATES: Comments must be received by January 20, 2004.

ADDRESSES: Submit comments in triplicate to the Federal Aviation Administration (FAA), Transport Airplane Directorate, ANM-114, Attention: Rules Docket No. 2002-NM-327-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2002-NM-327-AD” in the subject line and need not be submitted in triplicate. Comments sent via the Internet as attached electronic files must be formatted in Microsoft Word 97 or 2000 or ASCII text.

The service information referenced in the proposed rule may be obtained from Boeing Commercial Airplane Group, P.O. Box 3707, Seattle, Washington 98124-2207. This information may be examined at the FAA, Transport Airplane Directorate, 1601 Lind Avenue, SW., Renton, Washington.

FOR FURTHER INFORMATION CONTACT: Doug Pegors, Aerospace Engineer; Propulsion Branch, ANM-140S, FAA, Seattle Aircraft Certification Office, 1601 Lind Avenue, SW., Renton, Washington; telephone (425) 917-6504; fax (425) 917-6590.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2002-NM-327-AD.” The postcard will be date stamped and returned to the commenter.

Availability of NPRMs

Any person may obtain a copy of this NPRM by submitting a request to the FAA, Transport Airplane Directorate, ANM-114, Attention: Rules Docket No. 2002-NM-327-AD, 1601 Lind Avenue, SW., Renton, Washington 98055-4056.

Discussion

The FAA has received a report indicating that, during a routine inspection in production at Boeing, the electrical resistance of the ground studs installed on the support bracket for the fire extinguisher bottles in the left main wheel well of certain Boeing Model 737 series airplanes was found to exceed the maximum allowed level. During manufacture, the anodize coating was not removed properly from the holes in the support bracket into which the ground studs are inserted, thereby increasing the electrical resistance between the studs and the bracket. Therefore, the electrical resistance between the bracket and the grounding studs may exceed the maximum allowed resistance. This condition, if not corrected, could result in insufficient electrical current to fire the fire extinguisher bottle squib and discharge the fire extinguishing agent, which could lead to an uncontrolled engine fire.

Explanation of Relevant Service Information

The FAA has reviewed and approved Boeing Alert Service Bulletin 737-26A1118, dated October 17, 2002, which describes procedures for:

• Measuring the electrical resistance of the dual ground studs to ensure that the electrical resistance is no greater than 0.5 milliohms;

• Measuring the bond resistance from the top terminal lug of each ground stud to the adjacent structure; and

• Corrective actions, if necessary.

The corrective actions include replacing the affected ground stud with a new ground stud; reworking the ground stud; and relocating the support bracket hole; as applicable. Accomplishment of the actions specified in the service bulletin is intended to adequately address the identified unsafe condition.

Explanation of Requirements of Proposed Rule

Since an unsafe condition has been identified that is likely to exist or develop on other products of this same type design, the proposed AD would require accomplishment of the actions specified in the service bulletin described previously, except as discussed below.

Difference Between Proposed Rule and Service Bulletin

Because the service bulletin does not specify a corrective action to take if the bond resistance measurement found in Figure 4 of the service bulletin is greater than 1.0 milliohms, this proposed AD would require operators to rework per a method approved by the Manager, Seattle Aircraft Certification Office (ACO), FAA.

Cost Impact

There are approximately 133 airplanes of the affected design in the worldwide fleet. The FAA estimates that 28 airplanes of U.S. registry would be affected by this proposed AD, that it would take approximately 2 work hours per airplane to accomplish the proposed actions, and that the average labor rate is $65 per work hour. Based on these figures, the cost impact of the proposed AD on U.S. operators is estimated to be $3,640, or $130 per airplane.

The cost impact figure discussed above is based on assumptions that no operator has yet accomplished any of the proposed requirements of this AD action, and that no operator would accomplish those actions in the future if this proposed AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

Boeing: Docket 2002-NM-327-AD.

Applicability: Model 737-600, 737-700, 737-700C, 737-800, and 737-900 series airplanes, as listed in Boeing Alert Service Bulletin 737-26A1118, dated October 17, 2002; certificated in any category.

Compliance: Required as indicated, unless accomplished previously.

To prevent high electrical resistance in the squib firing circuit, which could result in insufficient electrical current to fire the fire extinguisher bottle squib and discharge the fire extinguishing agent, which could lead to an uncontrolled engine fire, accomplish the following:

Inspection, Rework, Replacement, Relocation and Installation

(a) Except as provided by paragraph (b) of this AD: Within 90 days after the effective date of this AD, measure the electrical resistance of the dual ground studs of the support brackets for the fire extinguisher bottle located in the left main landing gear wheel well (including the applicable corrective actions) by accomplishing all actions specified in the Accomplishment Instructions of Boeing Alert Service Bulletin 737-26A1118, dated October 17, 2002. Do the actions per the service bulletin. Any applicable corrective action must be accomplished prior to further flight.

Additional Rework

(b) If, when accomplishing the bond resistance measurement described in Figure 4 of the Boeing Alert Service Bulletin 737-26A1118, dated October 17, 2002, the resistance is found to be greater than 1.0 milliohms (0.001 ohms): Before further flight, rework per a method approved by the Manager, Seattle Aircraft Certification Office (ACO), FAA.

Alternative Methods of Compliance

(c) In accordance with 14 CFR 39.19, the Manager, Seattle Aircraft Certification Office, FAA, is authorized to approve alternative methods of compliance (AMOCs) for this AD.

Issued in Renton, Washington, on November 28, 2003.
Kalene C. Yanamura,
Acting Manager, Transport Airplane Directorate, Aircraft Certification Service.

[FR Doc. 03-30192 Filed 12-3-03; 8:45 am]

BILLING CODE 4910-13-P